Title 3—

The President

Proclamation 7295 of April 15, 2000

Establishment of the Giant Sequoia National Monument

By the President of the United States of America

A Proclamation

The rich and varied landscape of the Giant Sequoia National Monument holds a diverse array of scientific and historic resources. Magnificent groves of towering giant sequoias, the world's largest trees, are interspersed within a great belt of coniferous forest, jeweled with mountain meadows. Bold granitic domes, spires, and plunging gorges texture the landscape. The area's elevation climbs from about 2,500 to 9,700 feet over a distance of only a few miles, capturing an extraordinary number of habitats within a relatively small area. This spectrum of ecosystems is home to a diverse array of plants and animals, many of which are rare or endemic to the southern Sierra Nevada. The monument embraces limestone caverns and holds unique paleontological resources documenting tens of thousands of years of ecosystem change. The monument also has many archaeological sites recording Native American occupation and adaptations to this complex landscape, and historic remnants of early Euroamerican settlement as well as the commercial exploitation of the giant sequoias. The monument provides exemplary opportunities for biologists, geologists, paleontologists, archaeologists, and historians to study these objects.

Ancestral forms of giant sequoia were a part of the western North American landscape for millions of years. Giant sequoias are the largest trees ever to have lived, and are among the world's longest-lived trees, reaching ages of more than 3,200 years or more. Because of this great longevity, giant sequoias hold within their tree rings multi-millennial records of past environmental changes such as climate, fire regimes, and consequent forest response. Only one other North American tree species, the high-elevation bristlecone pine of the desert mountain ranges east of the Sierra Nevada, holds such lengthy and detailed chronologies of past changes and events.

Sequoias and their surrounding ecosystems provide a context for understanding ongoing environmental changes. For example, a century of fire suppression has led to an unprecedented failure in sequoia reproduction in otherwise undisturbed groves. Climatic change also has influenced the sequoia groves; their present highly disjunct distribution is at least partly due to generally higher summertime temperatures and prolonged summer droughts in California from about 10,000 to 4,500 years ago. During that period, sequoias were rarer than today. Only following a slight cooling and shortening of summer droughts, about 4,500 years ago, has the sequoia been able to spread and create today's groves.

These giant sequoia groves and the surrounding forest provide an excellent opportunity to understand the consequences of different approaches to forest restoration. These forests need restoration to counteract the effects of a century of fire suppression and logging. Fire suppression has caused forests to become denser in many areas, with increased dominance of shade-tolerant species. Woody debris has accumulated, causing an unprecedented buildup of surface fuels. One of the most immediate consequences of these changes is an increased hazard of wildfires of a severity that was rarely encountered in pre-Euroamerican times. Outstanding opportunities exist for studying the consequences of different approaches to mitigating these conditions and restoring natural forest resilience.

The great elevational range of the monument embraces a number of climatic zones, providing habitats for an extraordinary diversity of plant species and communities. The monument is rich in rare plants and is home to more than 200 plant species endemic to the southern Sierra Nevada mountain range, arrayed in plant communities ranging from low-elevation oak woodlands and chaparral to high-elevation subalpine forest. Numerous meadows and streams provide an interconnected web of habitats for moisture-loving species.

This spectrum of interconnected vegetation types provides essential habitat for wildlife, ranging from large, charismatic animals to less visible and less familiar forms of life, such as fungi and insects. The mid-elevation forests are dominated by massive conifers arrayed in a complex landscape mosaic, providing one of the last refugia for the Pacific fisher in California. The fisher appears to have been extirpated from the northern Sierra Nevada mountain range. The forests of the monument are also home to great gray owl, American marten, northern goshawk, peregrine falcon, spotted owl, and a number of rare amphibians. The giant sequoias themselves are the only known trees large enough to provide nesting cavities for the California condor, which otherwise must nest on cliff faces. In fact, the last pair of condors breeding in the wild was discovered in a giant sequoia that is part of the new monument. The monument's giant sequoia ecosystem remains available for the return and study of condors.

The physiography and geology of the monument have been shaped by millions of years of intensive uplift, erosion, volcanism, and glaciation. The monument is dominated by granitic rocks, most noticeable as domes and spires in areas such as the Needles. The magnificent Kern Canyon forms the eastern boundary of the monument's southern unit. The canyon follows an ancient fault, forming the only major north-south river drainage in the Sierra Nevada. Remnants of volcanism are expressed as hot springs and soda springs in some drainages.

Particularly in the northern unit of the monument, limestone outcrops, remnants of an ancient seabed, are noted for their caves. Subfossil vegetation entombed within ancient woodrat middens in these caves has provided the only direct evidence of where giant sequoias grew during the Pleistocene Era, and documents substantial vegetation changes over the last 50,000 or more years. Vertebrate fossils also have been found within the middens. Other paleontological resources are found in meadow sediments, which hold detailed records of the last 10 millennia of changing vegetation, fire regimes, and volcanism in the Sierra Nevada. The multi-millennial, annual- and seasonal-resolution records of past fire regimes held in giant sequoia tree-rings are unique worldwide.

During the past 8,000 years, Native American peoples of the Sierra Nevada have lived by hunting and fishing, gathering, and trading with other people throughout the region. Archaeological sites such as lithic scatters, food-processing sites, rock shelters, village sites, petroglyphs, and pictographs are found in the monument. These sites have the potential to shed light on the roles of prehistoric peoples, including the role they played in shaping the ecosystems on which they depended.

One of the earliest recorded references to giant sequoias is found in the notes of the Walker Expedition of 1833, which described “trees of the redwood species, incredibly large . . . .” The world became aware of giant sequoias when sections of the massive trees were transported east and displayed as curiosities for eastern audiences. Logging of giant sequoias throughout the Sierra Nevada mountain range began in 1856. Logging has continued intermittently to this day on nonfederal lands within the area of the monument. Early entrepreneurs, seeing profit in the gigantic trees, began acquiring lands within the present monument under the Timber and Stone Act in the 1880s. Today our understanding of the history of the Hume Lake and Converse Basin areas of the monument is supported by a treasure trove of historical photographs and other documentation. These records provide a unique and unusually clear picture of more than half a century of logging that resulted in the virtual removal of most forest in some areas of the monument. Outstanding opportunities exist for studying forest resilience to large-scale logging and the consequences of different approaches to forest restoration.

Section 2 of the Act of June 8, 1906 (34 Stat. 225, 16 U.S.C. 431) authorizes the President, in his discretion, to declare by public proclamation historic landmarks, historic and prehistoric structures, and other objects of historic or scientific interest that are situated upon lands owned or controlled by the Government of the United States to be national monuments, and to reserve as a part thereof parcels of land, the limits of which in all cases, shall be confined to the smallest area compatible with the proper care and management of the objects to be protected.

WHEREAS it appears that it would be in the public interest to reserve such lands as a national monument to be known as the Giant Sequoia National Monument:

NOW, THEREFORE, I, WILLIAM J. CLINTON, President of the United States of America, by the authority vested in me by section 2 of the Act of June 8, 1906 (34 Stat. 225, 16 U.S.C. 431), do proclaim that there are hereby set apart and reserved as the Giant Sequoia National Monument, for the purpose of protecting the objects identified in the above preceding paragraphs, all lands and interests in lands owned or controlled by the United States within the boundaries of the area described on the map entitled “Proposed Giant Sequoia National Monument” attached to and forming a part of this proclamation. The Federal land and interests in land reserved consist of approximately 327,769 acres, which is the smallest area compatible with the proper care and management of the objects to be protected as identified in the above preceding paragraphs.

All Federal lands and interests in lands within the boundaries of this monument are hereby appropriated and withdrawn from entry, location, selection, sale, leasing, or other disposition under the public land laws including, but not limited to, withdrawal from locating, entry, and patent under the mining laws and from disposition under all laws relating to mineral and geothermal leasing, other than by exchange that furthers the protective purposes of the monument. Lands and interests in lands within the boundaries of the monument not owned by the United States shall be reserved as a part of the monument upon acquisition of title thereto by the United States.

The establishment of this monument is subject to valid existing rights.

Timber sales under contract as of the date of the proclamation and timber sales with a decision notice signed after January 1, 1999, but prior to December 31, 1999, may be completed consistent with the terms of the decision notice and contract. No portion of the monument shall be considered to be suited for timber production, and no part of the monument shall be used in a calculation or provision of a sustained yield of timber from the Sequoia National Forest. Removal of trees, except for personal use fuel wood, from within the monument area may take place only if clearly needed for ecological restoration and maintenance or public safety.

The Secretary of Agriculture shall manage the monument, along with the underlying Forest, through the Forest Service, pursuant to applicable legal authorities, to implement the purposes and provisions of this proclamation. The Secretary of Agriculture shall prepare, within 3 years of this date, a management plan for this monument, and shall promulgate such regulations for its management as deemed appropriate. The plan will provide for and encourage continued public and recreational access and use consistent with the purposes of the monument.

Unique scientific and ecological issues are involved in management of giant sequoia groves, including groves located in nearby and adjacent lands managed by the Bureau of Land Management and the National Park Service. The Secretary, in consultation with the National Academy of Sciences, shall appoint a Scientific Advisory Board to provide scientific guidance during the development of the initial management plan. Board membership shall represent a range of scientific disciplines pertaining to the objects to be protected, including, but not necessarily limited to, the physical, biological, and social sciences.

The Secretary, through the Forest Service, shall, in developing any management plans and any management rules and regulations governing the monument, consult with the Secretary of the Interior, through the Bureau of Land Management and the National Park Service. The final decision to issue any management plans and any management rules and regulations rests with the Secretary of Agriculture. Management plans or rules and regulations developed by the Secretary of the Interior governing uses within national parks or other national monuments administered by the Secretary of the Interior shall not apply within the Giant Sequoia National Monument.

The management plan shall contain a transportation plan for the monument that provides for visitor enjoyment and understanding about the scientific and historic objects in the monument, consistent with their protection. For the purposes of protecting the objects included in the monument, motorized vehicle use will be permitted only on designated roads, and non-motorized mechanized vehicle use will be permitted only on designated roads and trails, except for emergency or authorized administrative purposes or to provide access for persons with disabilities. No new roads or trails will be authorized within the monument except to further the purposes of the monument. Prior to the issuance of the management plan, existing roads and trails may be closed or altered to protect the objects of interest in the monument, and motorized vehicle use will be permitted on trails until but not after December 31, 2000.

Nothing in this proclamation shall be deemed to diminish or enlarge the jurisdiction of the State of California with respect to fish and wildlife management.

There is hereby reserved, as of the date of this proclamation and subject to valid existing rights, a quantity of water sufficient to fulfill the purposes for which this monument is established. Nothing in this reservation shall be construed as a relinquishment or reduction of any water use or rights reserved or appropriated by the United States on or before the date of this proclamation.

Laws, regulations, and policies pertaining to administration by the Department of Agriculture of grazing permits and timber sales under contract as of the date of this proclamation on National Forest System lands within the boundaries of the monument shall continue to apply to lands within the monument.

Nothing in this proclamation shall be deemed to affect existing special use authorizations; existing uses shall be governed by applicable laws, regulations, and management plans.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this fifteenth day of April, in the year of our Lord two thousand, and of the Independence of the United States of America the two hundred and twenty fourth.

wj

Billing code 3195-01-P

[FR Doc. 00-10312

Filed 4-24-00; 8:45 am]

Billing code 3195-01-C